DEPARTMENT OF COMMERCE

International Trade Administration

[A-570-893]

Certain Frozen Warmwater Shrimp From the People's Republic of China: Final Results of the Antidumping Duty New Shipper Review

AGENCY: Import Administration, International Trade Administration, Department of Commerce.

SUMMARY: On July 6, 2006, the Department of Commerce (“the Department”) published in the Federal Register the preliminary results of the new shipper review of the antidumping duty order on certain frozen warmwater shrimp from the People's Republic of China (“PRC”) for Zhanjiang Regal Integrated Marine Resources Co., Ltd. (“Zhanjiang Regal”). See Certain Frozen Warmwater Shrimp from the People's Republic of China: Preliminary Results of the Antidumping Duty New Shipper Review, 71 FR 38368 (July 6, 2006) (“Preliminary Results”). We gave interested parties an opportunity to comment on the Preliminary Results. No party submitted a case brief in the instant review and we made no changes to the Preliminary Results. Therefore, we continue to find that Zhanjiang Regal did not sell subject merchandise at less than normal value during the period of review (“POR”) July 16, 2004, through July 31, 2005.

EFFECTIVE DATE: December 4, 2006.

FOR FURTHER INFORMATION CONTACT: Javier Barrientos, AD/CVD Operations, Office 9, Import Administration, International Trade Administration, U.S. Department of Commerce, 14th Street and Constitution Avenue, NW., Washington, DC 20230; telephone: (202) 482-2243.

SUPPLEMENTARY INFORMATION:

Case History

Subsequent to the Preliminary Results, on August 18, 2006, the Department implemented the temporary suspension of the new shipper bonding provision in this review, in accordance with the Pension Protection Act of 2006, Pub. L. No. 109-280, Sec. 1632, 120 Stat. 780 (2006), which was signed into law on August 17, 2006. The legislation suspended the ability of a U.S. importer to satisfy the antidumping duty deposit requirements by posting a bond or other security deposit in lieu of a cash deposit with U.S. Customs and Border Protection (CBP) during the period of April 1, 2006 to June 30, 2009. On September 20, 2006, the Department published in the Federal Register a notice extending the deadline for the final results. See Certain Frozen Warmwater Shrimp from the People's Republic of China: Extension of Time Limit for Final Results of the 2004/2005 Antidumping Duty New Shipper Review, 71 FR 54978 (September 20, 2006). On September 22, 2006, we placed additional entry documents on the record in which an importer listed Zhanjiang Regal as the producer of shrimp exported to the United States.¹ On September 22, 2006, we issued Zhanjiang Regal a supplemental questionnaire. On September 29, 2006, Zhanjiang Regal submitted its response to this questionnaire. No party submitted case briefs.

¹ Although these additional entries were not reported during the course of the review, there is nothing on the record demonstrating that Zhanjiang Regal knew or had reason to believe that these additional entries were destined for the United States.

Scope of the Order

The scope of this order includes certain warmwater shrimp and prawns, whether frozen, wild-caught (ocean harvested) or farm-raised (produced by aquaculture), head-on or head-off, shell-on or peeled, tail-on or tail-off (including the telson and the uropods), deveined or not deveined, cooked or raw, or otherwise processed in frozen form.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the penaiedae family. Some examples of the farmed and wild-caught warmwater species include, but are not limited to, whiteleg shrimp (penaeus vannemei), banana prawn (penaeus merguiensis), fleshy prawn (penaeus chinensis), giant river prawn (macrobrachium rosenbergii), giant tiger prawn (penaeus monodon), redspotted shrimp (penaeus brasiliensis), southern brown shrimp (penaeus subtilis), southern pink shrimp (penaeus notialis), southern rough shrimp (trachypenaeus curvirostris), southern white shrimp (penaeus schmitti), blue shrimp (penaeus stylirostris), western white shrimp (penaeus occidentalis), and indian white prawn (penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) Lee Kum Kee's shrimp sauce; (7) canned warmwater shrimp and prawns (HTSUS subheading 1605.20.10.40); (8) certain dusted shrimp; and (9) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; (5) that is subjected to individually quick frozen (IQF) freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for Customs purposes only and are dispositive, but rather the written description of the scope of this order is dispositive.

Final Results of Review

We made no changes to the Preliminary Results; thus, we continue to find the following margin exists during the period July 16, 2004, through July 31, 2005:

Certain Frozen Warmwater Shrimp From the PRC
Exporter/manufacturer | Weighted- average margin (percent)
Zhanjiang Regal Integrated Marine Resources Co., Ltd. | 0.00

Assessment Rates

The Department will issue appropriate appraisement instructions directly to U.S. Customs and Border Protection (“CBP”) for Zhanjiang Regal within 15 days of publication of the final results of this review. Pursuant to 19 CFR 351.212(b)(1), we will calculate importer-specific ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these results of the new shipper review for all shipments of subject merchandise from Zhanjiang Regal entered, or withdrawn from warehouse, for consumption on or after the publication date: (1) For subject merchandise manufactured and exported by Zhanjiang Regal, no cash deposit will be required; (2) for subject merchandise exported by Zhanjiang Regal but not manufactured by itself, the cash deposit rate will continue to be the PRC-wide rate, (i.e., 112.81 percent); and (3) for subject merchandise produced by Zhanjiang Regal, but not exported by Zhanjiang Regal, the cash deposit rate will be the rate applicable to the exporters. These requirements will remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This new shipper review and notice are in accordance with sections 751(a)(1), 751(a)(2)(B), and 777(i) of the Act and 19 CFR 351.214(h).

Dated: November 20, 2006.
David M. Spooner,
Assistant Secretary, for Import Administration.

[FR Doc. 06-9463 Filed 12-1-06; 8:45 am]

BILLING CODE 3510-DS-M